NATIONAL AERONAUTICS AND SPACE ADMINISTRATION

[Notice: 13-137]

NASA Advisory Council; Technology and Innovation Committee; Meeting

AGENCY: National Aeronautics and Space Administration.

ACTION: Notice of meeting.

SUMMARY: The National Aeronautics and Space Administration (NASA) announces a meeting of the Technology and Innovation Committee (TIC) of the NASA Advisory Council (NAC). The meeting will be held for the purpose of reviewing status of activities within the Office of the Chief Technologist with an emphasis on the discussing the Agency's Technology Roadmapping efforts; status of the Space Technology Mission Directorate programs with an emphasis on Solar Electric Propulsion and Cryogenic Propellant Storage and Transfer; and a discussion of barriers to innovation and innovation enablers.

DATES: Tuesday, December 10, 2013, 8:00 a.m. to 5:00 p.m., Local Time.

ADDRESSES: NASA Kennedy Space Center, Headquarters Building, Room 3225, Kennedy Space Center, FL 32899.

FOR FURTHER INFORMATION CONTACT: Dr. Kathleen Gallagher, Office of the Chief Technologist, NASA Headquarters, Washington, DC 20546, (202) 358-2185, fax (202) 358-4078, or kathleen.a.gallagher@nasa.gov.

SUPPLEMENTARY INFORMATION: This meeting is also available telephonically and by WebEx. Any interested person may call the USA toll free conference call number 866-880-0098, passcode 2851035, to participate in this meeting by telephone. The WebEx link is https://nasa.webex.com/, the meeting number is 397 688 819, and the password is Technology1213#.

The agenda for the meeting includes the following topics:

—Office of the Chief Technologist Update

—Update on Technology Roadmapping

—Space Technology Mission Directorate Update

—Update on Solar Electric Propulsion Project

—Update on the Cryogenic Propellant Storage and Transfer Project

—Overview of Barriers to Innovation and Innovation Enablers

The meeting will be open to the public up to the seating capacity of the room. Seating will be on a first-come basis. Attendees will be required to sign a visitor's register and to comply with NASA security requirements, including the presentation of a valid picture ID, before receiving an access badge. All U.S. citizens desiring to attend the this meeting at the NASA Kennedy Space Center must provide their full name, company affiliation (if applicable), driver's license number and state, citizenship, place of birth, and date of birth to the Kennedy Space Center Protective Services Office no later than close of business on December 5, 2013. All non-U.S. citizens must submit their name; current address; driver's license number and state (if applicable); citizenship; company affiliation (if applicable) to include address, telephone number, and title; place of birth; date of birth; U.S. visa information to include type, number, and expiration date; U.S. Social Security Number (if applicable); Permanent Resident (green card) number and expiration date (if applicable); place and date of entry into the U.S.; and passport information to include country of issue, number, and expiration date, to the Kennedy Space Center Protective Services Office no later than close of business on December 5, 2013. If the above information is not received by the noted dates, attendees should expect a minimum delay of two (2) hours. All visitors to this meeting will be required to process in through the KSC Badging Office, Building M6-0224, located just outside of KSC Gate 2, on SR 405, Kennedy Space Center, Florida. Please provide the appropriate data required above by email to Tina Hosch at TINA.HOSCH@NASA.GOV or fax 321-867-7206, noting at the top of the page “Public Admission to the Technology Innovation Committee Meeting of the NASA Advisory Council at KSC.” For security questions, please email Tina Hosch at TINA.HOSCH@NASA.GOV. All visitors will be escorted while attending the meeting at Kennedy Space Center. All visitors will board a bus at the Kennedy Space Center Badging Office for transportation to and from the meeting.

It is imperative that the meeting be held on this date to accommodate the scheduling priorities of the key participants.

Patricia D. Rausch,
Advisory Committee Management Officer, National Aeronautics and Space Administration.

[FR Doc. 2013-28489 Filed 11-26-13; 8:45 am]

BILLING CODE 7510-13-P